DEPARTMENT OF HEALTH AND HUMAN SERVICES

Food and Drug Administration

[Docket No. 90F-0116]

Minnesota Mining and Manufacturing Co.; Withdrawal of Food Additive Petition

AGENCY: Food and Drug Administration, HHS.

ACTION: Notice.

SUMMARY: The Food and Drug Administration (FDA) is announcing the withdrawal, without prejudice to a future filing, of a food additive petition (FAP 0B4197) proposing that the food additive regulations be amended to permit the additional use of ammonium bis (N-ethyl-2 perfluoroalkylsulfonamido ethyl) phosphates in contact with nonalcoholic foods at high temperatures, including the use in microwave heat susceptor packaging.

FOR FURTHER INFORMATION CONTACT: Edward J. Machuga, Center for Food Safety and Applied Nutrition (HFS-215), Food and Drug Administration, 200 C St. SW., Washington, DC 20204, 202-418-3085.

SUPPLEMENTARY INFORMATION: In a notice published in the Federal Register of April 16, 1990 (55 FR 14133), FDA announced that a food additive petition (FAP 0B4197) had been filed by Minnesota Mining and Manufacturing Co., 3M Center, St. Paul, MN 55144-1000. The petition proposed to amend the food additive regulations to permit the additional use of ammonium bis (N-ethyl-2 perfluoroalkylsulfonamido ethyl) phosphates in contact with nonalcoholic foods at high temperatures, including the use in microwave heat susceptor packaging. Minnesota Mining and Manufacturing Co. has now withdrawn the petition without prejudice to a future filing (21 CFR 171.7).

Dated: June 22, 2000.
Alan M. Rulis,
Director, Office of Premarket Approval, Center for Food Safety and Applied Nutrition.

[FR Doc. 00-17604 Filed 7-11-00; 8:45 am]

BILLING CODE 4160-01-F